DEPARTMENT OF COMMERCE

Bureau of the Census

[Docket Number 001127332-0332-01]

RIN Number 0607-XX60

Annual Surveys in the Manufacturing Area

AGENCY: Bureau of the Census, Commerce.

ACTION: Notice of determination.

SUMMARY: The Bureau of the Census (Census Bureau) is conducting the 2000 Annual Surveys in the Manufacturing Area. The 2000 Annual Surveys consist of the Current Industrial Reports surveys, the Annual Survey of Manufactures, the Survey of Industrial Research and Development, and the Survey of Plant Capacity Utilization. We have determined that annual data collected from these surveys are needed to aid the efficient performance of essential governmental functions and have significant application to the needs of the public and industry. The data derived from these surveys, most of which have been conducted for many years, are not publicly available from nongovernmental or other governmental sources.

FOR FURTHER INFORMATION CONTACT: Mr. William G. Bostic, Jr., Chief, Manufacturing and Construction Division, Census Bureau, on (301) 457-4593.

SUPPLEMENTARY INFORMATION: The Census Bureau is authorized to take surveys necessary to furnish current data on the subjects covered by the major censuses authorized by Title 13, United States Code (U.S.C.), Sections 61, 81, 182, 224, and 225. These surveys will provide continuing and timely national statistical data on manufacturing for the period between economic censuses. The next economic censuses will be conducted for the year 2002. The data collected in these surveys will be within the general scope and nature of those inquiries covered in the economic censuses.

Current Industrial Reports

Most of the following commodity or product surveys provide data on shipments or production, data on stocks, unfilled orders, orders booked, consumption, and so forth. Reports will be required of all, or a sample of, establishments engaged in the production of the items covered by the following list of surveys.

Survey Title
MA313F | Yarn Production.
MA313K | Knit Fabric Production.
MA314Q | Carpets and Rugs.
MA315D | Gloves and Mittens.
MA321T | Lumber Production and Mill Stocks.
MA325F | Paint and Allied Products.
MA325G | Pharmaceutical Preparations, except Biologicals.
MA316A | Footwear Production.
MA327C | Refractories.
MA327E | Consumer, Scientific, Technical, and Industrial Glassware.
MA331A | Iron and Steel Castings.
MA331B | Steel Mill Products.
MA331E | Nonferrous Castings.
MA335J | Insulated Wire and Cable.
MA333A | Farm Machinery and Lawn and Garden Equipment.
MA333D | Construction Machinery.
MA333F | Mining Machinery and Mineral Processing Equipment.
MA333L | Internal Combustion Engines.
MA333M | Refrigeration, Air-conditioning, and Warm Air Equipment.
MA333P | Pumps and Compressors.
MA333U | Vending Machines (Coin-Operated).
MA332Q | Antifriction Bearings.
MA334R | Computers and Office and Accounting Machines.
MA335A | Switchgear, Switchboard Apparatus, Relays, and Industrial Controls.
MA335E | Electric Housewares and Fans.
MA335F | Major Household Appliances.
MA335H | Motors and Generators.
MA335K | Wiring Devices and Supplies.
MA334M | Consumer Electronics.
MA334P | Communication Equipment.
MA334Q | Semiconductors, Printed Circuit Boards, and Electronic Components.
MA334B | Selected Instruments and Related Products.
MA334S | electromedical and Irradiation Equipment.

The following list of surveys represent annual counterparts of monthly and quarterly surveys and will cover only those establishments that are not canvassed, or do not report, in the more frequent surveys. Accordingly, there will be no duplication in reporting. The content of these annual reports will be identical with that of the monthly and quarterly reports.

Survey Title
M311H | Animal and Vegetable Fats and Oils (Stocks).
M311J | Oilseeds, Beans, and Nuts (Primary Producers).
M311L | Fats and Oils; (Renderers).
M311M | Animal and Vegetables Fats and Oils (Consumption and Stocks).
M311N | Animal and Vegetables Fats and Oils (Production, Consumption, and Stock).
M313P | Consumption on the Cotton System.
M327G | Glass Containers.
M331J | Inventories of Steel Producing Mills.
M336G | Civil Aircraft and Aircraft Engines.
M336L | Truck Trailers.
MQ311A | Flour Milling Products.
MQ313D | Consumption on the Woolen System and Worsted Combing.
MQ313T | Broadwoven Fabrics (Gray).
MQ315A | Apparel.
MQ314X | Bed and Bath Furnishings.
MQ325A | Inorganic Chemicals.
MQ325B | Fertilizer Materials.
MQ325C | Industrial Gases.
MQ327D | Clay Construction Products.
MQ332E | Plumbing Fixtures.
MQ333W | Metalworking Machinery.
MQ335C | Fluorescent Lamp Ballasts.

Annual Survey of Manufactures

The Annual Survey of Manufactures collects industry statistics, such as total value of shipments, employment, payroll, workers' hours, capital expenditures, cost of materials consumed, supplemental labor costs, and so forth. This survey, while conducted on a sample basis, covers all manufacturing industries, including data on plants under construction but not yet in operation.

Survey of Industrial Research and Development

The Survey of Industrial Research and Development measures spending on research and development activities in private U.S. businesses. The Census Bureau collects and compiles this information with funding from the National Science Foundation (NSF). The NSF publishes the results in its publication series. Four data items in the survey provide interim statistics collected in the Census Bureau's Economic Censuses. These items (total company sales, total company employment, and total expenditures and Federally-funded expenditures for research and development conducted within the company) are collected on a mandatory basis under the authority of Title 13, U.S.C. Responses to all other data collected for the NSF are voluntary.

Survey of Plant Capacity Utilization

The Survey of Plant Capacity Utilization is designed to measure the use of industrial capacity. The survey collects information on actual output and estimates of potential output in terms of value of production. These data are the basis for calculating rates of utilization of full production capability and use of production capability under national emergency conditions.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C., Chapter 35, the OMB approved the 2000 Annual Surveys under the following OMB Control Numbers: Current Industrial Reports—0607-0206, 0607-0392, 0607-0393, 0607-0395, 0607-0476, and 0607-0776; Annual Surveys of Manufactures—0607-0449; Survey of Industrial Research and Development—3145-0027; and, Survey of Plant Capacity Utilization—0607-0175. We will provide copies of the form upon written request to the Director, Census Bureau, Washington, DC 20233-0001.

Based upon the foregoing, I have directed that the Annual Surveys in the Manufacturing Area be conducted for the purpose of collecting these data.

Dated: December 1, 2000.
Kenneth Prewitt,
Director, Bureau of the Census.

[FR Doc. 00-31170 Filed 12-6-00; 8:45 am]

BILLING CODE 3510-07-P